DEPARTMENT OF AGRICULTURE

Forest Service

South Gifford Pinchot National Forest Resource Advisory Committee Meeting Notice

AGENCY: Forest Service, USDA.

ACTION: Notice of meeting.

SUMMARY: The South Gifford Pinchot National Forest Resource Advisory Committee will meet on Monday, April 20, 2009, at the Columbia Gorge Riverside Lodge 200 SW Cascade Avenue, Stevenson, Washington. The meeting will begin at 9 a.m. and continue until 4 p.m. The purpose of the meeting is to: Elect a chairperson and vice-chair, propose an indirect project percentage, receive an overview of Title II accomplishments, and make recommendations on approximately 60 proposals for Title II funding of projects under the Secure Rural Schools and County Self-Determination Act of 2000.

All South Gifford Pinchot National Forest Resource Advisory Committee meetings are open to the public. Interested citizens are encouraged to attend. The “open forum” provides opportunity for the public to bring issues, concerns, and discussion topics to the Advisory Committee. The “open forum” is scheduled to occur at 9:10 a.m. on April 20. Interested speakers will need to register prior to the open forum period. The committee welcomes the public's written comments on committee business at any time.

FOR FURTHER INFORMATION CONTACT: Direct questions regarding this meeting to Roger Peterson, Public Affairs Specialist, at (360) 891-5007, or write Forest Headquarters Office, Gifford Pinchot National Forest, 10600 NE. 51st Circle, Vancouver, WA 98682.

Dated: March 6, 2009.
Janine Clayton,
Forest Supervisor.

[FR Doc. E9-5587 Filed 3-16-09; 8:45 am]

BILLING CODE 3410-11-M